DEPARTMENT OF DEFENSE

Department of the Air Force

Notice of Intent To Prepare an Environmental Impact Statement for F-35A Wing Beddown and MQ-9 Wing Beddown

AGENCY: Department of the Air Force, DoD.

ACTION: Notice of intent.

SUMMARY: The United States Air Force (USAF) is issuing this notice of intent to advise the public of its intent to prepare an Environmental Impact Statement (EIS) to evaluate potential environmental consequences associated with two independent proposed actions: (1) The beddown of an F-35A Operational Wing at Tyndall AFB, FL. and (2) The beddown of an MQ-9 Remotely Piloted Aircraft (RPA) Operational Wing at either Tyndall AFB, Florida (FL) or Vandenberg AFB, California (CA).

DATES: The USAF will host two open-house public scoping meetings: Tuesday, December 10, 2019, from 5:30 p.m. to 8:30 p.m., at Gulf Coast State College, Student Union East in Panama City, Florida, and Thursday, December 12, 2019, from 5:30 p.m. to 8:30 p.m., at Allan Hancock College, Lompoc Valley Center in Lompoc, California.

ADDRESSES: Submit scoping comments on the proposed F35-A and MQ-9 Wing Beddowns on the project website: F-35WingandMQ-9WingEIS.com. Scoping comments can also be submitted to: F-35/MQ-9 EIS Program Manager, Cynthia Pettit, AFCEC/CZN, Attn: F-35/MQ-9, 2261 Hughes Avenue, Suite 155, JBSA Lackland, TX 78236-9853; 210-925-3367; Email: afcec.czn.workflow@us.af.mil; 210-925-3367 or FedEx & UPS Deliveries: AFCEC/CZN, 3515 S General McMullen Drive, Suite 155, San Antonio, TX 78226-2018. For comments submitted by mail, a comment form is available for download on the project website. Comments will be accepted at any time during the environmental impact analysis process. However, to ensure the USAF has sufficient time to consider public input in the preparation of the Draft EIS, scoping comments should be submitted via the project website or to the address listed above by December 23, 2019.

SUPPLEMENTARY INFORMATION: The F-35A Proposed Action is to beddown an F-35A Wing at Tyndall AFB, FL, consisting of three operational squadrons, each with 24 Primary Aerospace Vehicles Authorized Aircraft (PAA) and two Backup Aircraft Inventory (BAI) aircraft. Beddown of the F-35A Wing would include constructing and retrofitting of physical infrastructure and facilities and adding personnel to manage and perform operations, which include maintenance of the aircraft. F-35A flight operations for proficiency training would occur at the base and use existing airspace and ranges. The F-35A Wing beddown alternatives identified for evaluation in the EIS include beddown of the three-squadron F-35A Wing at Tyndall AFB, FL and an alternative with a fourth squadron of fifth generation fighter aircraft in addition to the three-squadron F-35A Wing.

The proposed MQ-9 Wing action is to beddown the MQ-9 remotely piloted aircraft system employed by the USAF in support of the Department of Defense directive to support initiatives of overseas contingency operations. The beddown of 24 MQ-9 aircraft would include a Wing Headquarters, an Operations Group, and Maintenance Group; construction and/or renovation of facilities would support staff and house MQ-9 aircraft. The number of base personnel would be increased to fulfill MQ-9 mission requirements. Flight operations for MQ-9 proficiency training would occur at the selected base and in existing airspace and ranges. MQ-9 Wing beddown alternatives identified for evaluation in the EIS include beddown of the MQ-9 Wing at either Tyndall AFB, FL or Vandenberg AFB, CA. Tyndall AFB, FL was identified as the preferred alternative for this mission.

The EIS will address potential environmental consequences resulting from implementation of each alternative for each of the proposed actions, as well as the combination of F-35A and MQ-9 actions at Tyndall AFB, FL. As required by NEPA, a No-Action Alternative, where the beddown of an F-35A Wing would not occur at Tyndall AFB, FL will also be addressed, as will the No-Action Alternative where the beddown of an MQ-9 Wing would not occur at either location. Bay County, Florida and Panama City, Florida are Cooperating Agencies for this EIS.

Scoping and Agency Coordination: To effectively define the full range of issues to be evaluated in the EIS, the USAF will solicit written comments from interested local, state, and federal agencies and elected officials, Native American tribes, interested members of the public, and others. Public scoping meetings will be held in the local communities near the alternative bases. The scheduled dates, times, locations, and addresses for the public scoping meetings are concurrently being published in local media.

Adriane Paris,
Acting Air Force Federal Register Liaison Officer.

[FR Doc. 2019-25537 Filed 11-22-19; 8:45 am]

BILLING CODE 5001-10-P